DEPARTMENT OF THE INTERIOR

Fish and Wildlife Service

[FWS-R8-R-2015-N087; FXRS282108E8PD0-156-F2013227943]

South Bay Salt Pond Restoration Project, Phase 2; Don Edwards San Francisco Bay National Wildlife Refuge; Draft Environmental Impact Statement/Environmental Impact Report

AGENCY: Fish and Wildlife Service, Interior.

ACTION: Notice of availability; request for public comments; announcement of meeting.

SUMMARY: We, the U.S. Fish and Wildlife Service (USFWS), in coordination with the California State Coastal Conservancy, announce the availability of a Draft Environmental Impact Statement/Environmental Impact Report (DEIS/EIR) for Phase 2 of the South Bay Salt Pond (SBSP) Restoration Project at the Don Edwards San Francisco Bay National Wildlife Refuge (Refuge) in Alameda, Santa Clara, and San Mateo Counties, California. The DEIS/EIR, which we prepared in accordance with the National Environmental Policy Act of 1969 (NEPA), describes and analyzes the alternatives identified for Phase 2 of the South Bay Salt Pond Restoration Project.

DATES: We will accept comments received or postmarked on or before September 22, 2015. A public meeting will be held on August 4, 2015 between 6 p.m. and 8 p.m. (see ADDRESSES).

Persons needing reasonable accommodations in order to attend and participate in the public meeting should contact Ariel Ambruster, by email at aambrust@ccp.csus.edu or by phone at 510-528-5006, at least 1 week in advance of the meeting to allow time to process the request.

ADDRESSES: Document Availability: You may obtain copies of the document in the following places:

• Internet: http://www.southbayrestoration.org/planning/phase2/.

• In-Person:

○ San Francisco Bay National Wildlife Refuge Complex Headquarters, 1 Marshlands Road, Fremont, CA 94555.

○ The following libraries:

Alviso Branch Library, 5050 N. First St., San Jose, CA 95002.

Biblioteca Latino America, 921 South First St., San Jose, CA 95110.

California State University Library, 25800 Carlos Bee Blvd., Hayward, CA 94542.

Fremont Main Library, 2400 Stevenson Blvd., Fremont, CA 94538.

Menlo Park Library, 800 Alma St., Menlo Park, CA 94025.

Mountain View Library, 585 Franklin St., Mountain View, CA 94041.

Rinconada Library, 1213 Newell Rd., Palo Alto, CA 94303.

King Library, 150 E San Fernando St., San Jose, CA 95112.

Redwood City Main Library, 1044 Middlefield Road, Redwood City, CA 94063.

San Mateo County East Palo Alto Library, 2415 University Ave., East Palo Alto, CA 94303.

Santa Clara County Milpitas Library, 160 N Main St., Milpitas, CA 95035.

Santa Clara Public Library, 2635 Homestead Rd., Santa Clara, CA 95051.

Sunnyvale Public Library, 665 W Olive Ave., Sunnyvale, CA 94086.

Natural Resources Library, U.S. Department of the Interior, 1849 C Street NW., Washington, DC 20240-0001.

For how to view comments on the draft EIS from the Environmental Protection Agency (EPA), or for information on EPA's role in the EIS process, see EPA's Role in the EIS Process under SUPPLEMENTARY INFORMATION.

Submitting Comments: You may submit written comments by one of the following methods:

• Electronically: Send comments via email to phase2comments@southbayrestoration.org. Your correspondence should indicate which pond complex, alternative, or issue your comments pertain to.

• By Hard Copy: Send written comments to Anne Morkill, Project Leader, Don Edwards San Francisco Bay National Wildlife Refuge, 1 Marshlands Road, Fremont, CA 94555, or to Brenda Buxton, Project Manager, State Coastal Conservancy, 1330 Broadway, 13th Floor, Oakland, CA 94612.

• By Fax: You may also send comments by facsimile to 510-792-5828.

To have your name added to our mailing list, contact Ariel Ambruster (see DATES).

Public Meeting: A public meeting will be held on August 4, 2015, from 6 p.m. to 8 p.m., at the Mountain View Community Center, located at 201 S. Rengstorff Avenue, Mountain View, California 94040-1706. Staff will be available to take comments and answer questions during this time. The details of the public meeting will be posted on the SBSP Restoration Project's Web site at http://www.southbayrestoration.org/events/. Meeting details will also be emailed to the Project's Stakeholder Forum and to those interested parties who request to be notified. Notification requests can be made by contacting the SBSP Restoration Project's public outreach coordinator Ariel Ambruster (see DATES).

FOR FURTHER INFORMATION CONTACT: Anne Morkill, Project Leader, USFWS, 510-792-0222.

SUPPLEMENTARY INFORMATION: In coordination with the California State Coastal Conservancy, we publish this notice to announce the availability of a DEIS/EIR for Phase 2 of the SBSP Restoration Project at the Don Edwards San Francisco Bay Refuge in Alameda, Santa Clara, and San Mateo Counties, California. Phase 2 involves Ponds R3, R4, R5, S5, A1, A2W, A8, A8S, A19, A20, and A21. The DEIS/EIR, which we prepared in accordance with the National Environmental Policy Act of 1969 (NEPA), describes and analyzes the alternatives identified for Phase 2 of the SBSP Restoration Project. In addition to our publication of this notice, EPA is publishing a notice announcing the draft CCP and EIS, as required under section 309 of the Clean Air Act (42 U.S.C. 7401 et seq.) The publication date of EPA's notice of availability is the start of the public comment period for the draft EIS. Under the CAA, EPA also must subsequently announce the final EIS via the Federal Register.

EPA's Role in the EIS Process

The EPA is charged under section 309 of the CAA (42 U.S.C. 7401 et seq.) to review all Federal agencies' environmental impact statements (EISs) and to comment on the adequacy and the acceptability of the environmental impacts of proposed actions in the EISs.

EPA also serves as the repository (EIS database) for EISs prepared by Federal agencies and provides notice of their availability in the Federal Register. The Environmental Impact Statement (EIS) Database provides information about EISs prepared by Federal agencies, as well as EPA's comments concerning the EISs. All EISs are filed with EPA, which publishes a notice of availability on Fridays in the Federal Register.

The notice of availability is the start of the public comment period for draft EISs, and the start of the 30-day “wait period” for final EISs, during which agencies are generally required to wait 30 days before making a decision on a proposed action. For more information, see http://www.epa.gov/compliance/nepa/eisdata.html. You may search for EPA comments on EISs, along with EISs themselves, at https://cdxnodengn.epa.gov/cdx-enepa-public/action/eis/search.

Background

In December 2007, the USFWS and the California Department of Fish and Wildlife (CDFW) published a Final EIS/EIR for the SBSP Restoration Project at the Don Edwards San Francisco Bay Refuge and the CDFW Eden Landing Ecological Reserve (December 28, 2007; 72 FR 73799). The overall south bay salt pond restoration area includes 15,100 acres that the USFWS and the CDFW acquired from Cargill, Inc. in 2003. The lands acquired from Cargill are divided into three pond complexes: The Ravenswood Pond Complex, in San Mateo County, managed by the USFWS; the Alviso Pond complex, also managed by the USFWS, which is mostly in Santa Clara County, with five ponds in Alameda County; and the Eden Landing Pond Complex, in Alameda County, which is owned and managed by the CDFW. The SBSP Restoration Project presented in the Final EIS/EIR was both programmatic, covering a 50-year period, and project-level, addressing the specific components and implementation of Phase 1.

In January 2008, we signed a Record of Decision selecting the Tidal Emphasis Alternative (Alternative C) for implementation. This alternative will result in 90 percent of the USFWS's ponds on the Refuge being restored to tidal wetlands and 10 percent converted to managed ponds. Under Phase 1 of Alternative C, we restored ponds E8A, E8X, E9, E12, and E13 at the Eden Landing complex; A6, A8, A16, and A17 at the Alviso complex; and SF2 at the Ravenswood complex. We also added several trails, interpretive features, and other recreational access points. Construction was completed on the USFWS ponds in 2013.

We now propose restoration or enhancement of over 2,000 acres of former salt ponds in the second phase of the SBSP Restoration Project. In Phase 2 DEIS/EIR, we provide project-level analysis of proposed restoration or enhancement of portions of the following three geographically separate pond clusters: The Ravenswood Pond Complex (R3, R4, R5, and S5), the Alviso Pond Complex-Mountain View Ponds (A1 and A2W), the Alviso Pond Complex-A8 Ponds (A8 and A8S), and the Alviso Pond Complex-Island Ponds (A19, A20, and A21). Some Phase 2 alternatives also include collaborative restoration and flood management activities with non-USFWS landowners of adjacent lands and managers of public infrastructures. Other Phase 2 alternatives do not include these components. These pond clusters are illustrated in Figures 1-5 on the SBSP Restoration Project Web site at http://www.southbayrestoration.org/planning/phase2/.

Phase 2 of the SBSP Restoration Project is intended to restore and enhance tidal wetlands and managed pond habitats in South San Francisco Bay while providing for flood management and wildlife-oriented public access and recreation. In this Phase 2 document, we would continue habitat restoration activities in both USFWS pond complexes, while also providing recreation and public access opportunities and maintaining or improving current levels of flood protection in the surrounding communities. Phase 2 actions are also being planned for implementation at the Eden Landing Pond Complex, which is owned and managed by the CDFW as part of the Eden Landing Wildlife Sanctuary, but these actions will be addressed under a separate process under the NEPA and California Environmental Quality Act (CEQA). We will address activities at other ponds in subsequent phases.

Alternatives

We consider a range of alternatives and their impacts in the DEIS/EIR, including No Action Alternatives for each group of ponds. The range of alternatives includes varying approaches to restoring tidal marshes (including number and location of breaches and other levee modifications), habitat enhancements (islands, transition zones, and channels), modifications to existing levees and berms to maintain or improve flood protection, and recreation and public access components (including trails, boardwalks, and viewing platforms) which correspond to the project objectives.

The alternatives for each group of ponds (“pond cluster”) are described below. The No Action Alternatives are described together, followed by the Action Alternatives that are under consideration for each pond cluster. In each group of ponds, each subsequently lettered alternative usually has successively more components and greater amounts of construction. Thus, at a given pond cluster, Alternative C would involve more components that Alternative B, which has more than Alternative A (No Action). One exception to this arrangement is at Ravenswood, where there are three Action Alternatives and where the defining feature of each alternative is not “more components versus fewer components” but rather a different restoration goal for some of the small ponds there.

Alviso-Island Ponds, Alviso-Mountain View Ponds, Alviso-A8 Ponds, and Ravenswood Ponds—Alternatives A (No Action)

Under Alternatives Island A, Mountain View A, A8 A, and Ravenswood A (the No Action Alternative at each of these pond clusters), no new activities would be implemented as part of Phase 2. The pond clusters would continue to be monitored and managed through the activities described in the Adaptive Management Plan (AMP) and in accordance with current USFWS practices.

Alviso Island Ponds

Alternative Island B

Alternative Island B would breach Pond A19's northern levee and remove or lower levees between Ponds A19 and A20 to increase connectivity and improve the ecological function of both ponds.

Alternative Island C

Alternative Island C would include the components of Alternative Island B with the addition of levee breaches on the north sides of Ponds A20 and A21, lowering of portions of levees around Pond A20, pilot channels in Pond A19, and widening the existing breaches on the southern levee of Pond A19.

Alviso-Mountain View Ponds

Alternative Mountain View B

Under Alternative Mountain View B, Ponds A1 and A2W levees would be breached at several points to introduce tidal flow in the ponds. Portions of Pond A1's western levee would be built up to maintain current levels of flood protection provided by the pond itself. Habitat transition zones and habitat islands would be constructed in the ponds to increase habitat complexity and quality for special-status species. A new trail and viewing platform would be installed to improve recreation and public access at these ponds.

Alternative Mountain View C

Under Alternative Mountain View C, levees would be breached and lowered to increase tidal flows in Pond A1, Pond A2W, and Charleston Slough. The inclusion of Charleston Slough (by breaching and lowering much of Pond A1's western levee) is the primary distinguishing feature between Alternative Mountain View B and Alternative Mountain View C. Several additional new trails and viewing platforms would be installed or replaced to improve recreation and public access at the pond cluster. To continue providing water to the City of Mountain View's Shoreline Park sailing lake, a new water intake would be constructed at the proposed breach between Pond A1 and Charleston Slough.

Alviso—A8 Ponds

Alternative A8 B

Alternative A8 B proposes the construction of habitat transition zones in Pond A8S's southwest corner, southeast corner, or both, depending on the amount of material available.

Ravenswood Ponds

Alternative Ravenswood B

Alternative Ravenswood B would open Pond R4 to tidal flows, improve levees to provide additional flood protection, create habitat transition zone along the western edge of Pond R4, establish managed ponds to improve habitat for diving and dabbling birds, increase pond connectivity, and add a viewing platform to improve recreation and public access.

Alternative Ravenswood C

Alternative Ravenswood C would be similar to Alternative Ravenswood B, with the following exceptions: Ponds R5 and S5 would be converted to a particular type of managed pond that is operated to maintain intertidal mudflat elevation; water control structures would be installed on Pond R3 to allow for improvement to the habitat for western snowy plover; an additional habitat transition zone would be constructed; and two public access and recreational trails and additional viewing platforms would be constructed.

Alternative Ravenswood D

Alternative Ravenswood D would open Pond R4 to tidal flows, improve levees to provide additional flood protection, create two habitat transition zones in Pond R4, establish enhanced managed ponds in Ponds R5 and S5, increase pond connectivity, enhance Pond R3 for western snowy plover habitat, remove the levees within and between Ponds R5 and S5, and improve recreation and public access. Alternative Ravenswood D would also allow temporary stormwater detention into Ponds R5 and S5 via connections with the City of Redwood City's Bayfront Canal and Atherton Channel Project. This would treat a residual salinity problem in Ponds R5 and S5.

NEPA Compliance

We are conducting environmental review in accordance with the requirements of NEPA, as amended (42 U.S.C. 4321 et seq.), its implementing regulations (40 CFR parts 1500-1508), other applicable regulations, and our procedures for compliance with those regulations. The DEIS/EIR discusses the direct, indirect, and cumulative impacts of the alternatives on biological resources, cultural resources, water quality, and other environmental resources. Measures to minimize adverse environmental effects are identified and discussed in the DEIS/EIR.

Public Comments

We request that you send comments only by one of the methods described in ADDRESSES. If you submit a comment that includes personal identifying information, you may request at the top of your document that we withhold this information from public review. However, we cannot guarantee that we will be able to do so.

In addition to providing written comments, the public is encouraged to attend a public meeting on August 4, 2015, to solicit comments on the DEIS/EIR. The location of the public meeting is provided in the ADDRESSES section. We will accept both oral and written comments at the public meeting.

Ren Lohoefener,
Regional Director, Pacific Southwest Region.

[FR Doc. 2015-17991 Filed 7-21-15; 8:45 am]

BILLING CODE 4310-55-P